DEPARTMENT OF TRANSPORTATION

Surface Transportation Board

[STB Finance Docket No. 33962]

CSX Transportation, Inc.—Trackage Rights Exemption—Ohio Southern Railroad, Incorporated

Ohio Southern Railroad, Incorporated (OSRR) has agreed to grant overhead and local trackage rights to CSX Transportation, Inc. (CSXT), over approximately 1.5 miles of rail line and appended trackage formerly known as CSXT's Zanesville Industrial Track, located between milepost 16.7 and milepost 18.2 in Zanesville, Muskingum County, OH, as part of the sale of CSXT's interest in the line to OSRR.¹

¹ OSRR's purchase of the track from CSXT was the subject of a notice of exemption in Ohio Southern Railroad, Incorporated—Acquisition and Operation Exemption—CSX Transportation, Inc., STB Finance Docket No. 33955.

The transaction was scheduled to be consummated on November 29, 2000, or as soon thereafter as the parties may agree and/or the time required for any necessary labor notice is given.²

² Under 49 CFR 1180.4(g)(1), a trackage rights exemption is effective 7 days after the notice is filed. Although the applicant indicated that the proposed transaction would be consummated on November 27, 2000, the notice was not filed until November 22, 2000, and thus the proposed transaction could not be consummated before the November 29, 2000 effective date. CSXT's representative has been informed by telephone that the transaction may not be consummated prior to November 29, 2000.

The purpose of the trackage rights is to allow CSXT to continue to serve the line's existing and future rail customers after the sale of the line to OSRR.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33962, must be filed with the Surface Transportation Board, Office of the Secretary, Case Control Unit, 1925 K Street, NW., Washington, DC 20423-0001. In addition, one copy of each pleading must be served on Natalie S. Rosenberg, CSX Transportation, Inc., 500 Water Street (J150), Jacksonville, FL 32202.

Board decisions and notices are available on our website at http://www.stb.dot.gov.

Decided: December 1, 2000.
By the Board, David M. Konschnik, Director, Office of Proceedings.
Vernon A. Williams,
Secretary.

[FR Doc. 00-31231 Filed 12-7-00; 8:45 am]

BILLING CODE 4915-00-P